DEPARTMENT OF JUSTICE

Antitrust Division

Notice Pursuant to the National Cooperative Research and Production Act of 1933—Telemanagement Forum

Notice is hereby given that, on August 11, 2006, pursuant to Section 6(a) of the National Cooperative Research and Production Act of 1993, 15 U.S.C. 4301 et seq. (“the Act”), Telemanagement Forum (“the Forum”) filed written notifications simultaneously with the Attorney General and the Federal Trade Commission disclosing changes in its membership. The notifications were filed for the purpose of extending the Act's provisions limiting the recovery of antitrust plaintiffs to actual damages under specified circumstances. Specifically, 24*7 Telecom Services, Bear, DE; Acumen Solutions UK Ltd., London, United Kingdom; AdvancedVoIP.com, Islamabad, Pakistan; AOL (UK) Ltd., London, United Kingdom; AOL Services (UK), London, United Kingdom; Appium AB, Malmo, Sweden; Ars Logica, Trento, Italy; BoldTech System Inc., Denver, CO; Bonus Technology, Inc., Newark, NJ; Business Consulting Network, Santiago, Chile; Carphone Warehouse, London, United Kingdom; Com Hem AB, Stockholm, Sweden; Computer Sciences Corporation, Wiesbaden, Germany; Comverse, Tel-Aviv, Israel; Connectiva Systems, Fair Lawn, NJ; CorpTech, Moscow, Russia; CTC Ltd., Kyiv, Ukraine; CyberAccess, Inc., Chagrin Falls, OH; DataSynapse, New York, NY; Dialog, Milton, Queensland, Australia; Elion Ettevõtted AS, Harjumaa, Estonia; Enterprise Architecture Consulting, Southampton, United Kingdom; Enure Networks, Herzeliya, Israel; Errigal Telecom Solutions, San Francisco, CA; Exploit Technologies LLC, Lone Tree, CO; Fastwire Pte Ltd., Singapore, Singapore; Fingerprint Consultancy, Cairo, Egypt; FROX communication, Hombrechtikon, Switzerland; Gamma Telecom, Newbury, United Kingdom; Glenayre Technologies, Duluth, GA; HCL Technologies, Uttar Pradesh, India; iAxisLimited, Andhra Pradesh, India; iisy AG, Rimpar, Germany; Integra Consultores, Caracas, Venezuela; ipworth, Bellevue, WA; Iskratel Telekomunikacijski sistemi, d.o.o., Slovenia, Slovenia; Jordan Mobile Telephone Services—Fastlink, Amman, Jordan; Kamco, Melbourne, Victoria, Australia; Kyivstar G.S.M. JSC, Kyiv, Ukraine; Metabula Ltd., Cambridge, United Kingdom; MFlory & Associates, Inc., Barnegat, NJ; Mobile Telecommunications Company, Safat, Kuwait; Mobile Telecommunications Company Group, Safat, Kuwait; MTC Touch, Beirut, Lebanon; MTC—Vodafone (Bahrain), Manama, Bahrain; Naumen, Moscow, Russia; neos networks, Reading, United Kingdom; NetworkedAssets GmbH, Berlin, Germany; Newsdesk Media Group, London, United Kingdom; NTG Clarity Networks Inc., Cairo, Egypt; Optima Telekom, Zagreb, Croatia; PacketFront, Kista, Sweden; Perceval, Brussels, Belgium; Praxis High Integrity Systems Ltd., Bath, United Kingdom; Perpara2 America Inc., Miami, FL; Probity Consulting Ltd., Pretoria, South Africa; Professional Computing Resources, Inc. (PCR), Kentwood, MI; Promon Tecnologia, São Paulo, Brazil; PT Wireless Indonesia, Jakarta, Indonesia; RADCOM, Middletown, NJ; B2 Bredband AB, Stockholm, Sweden; BoomBoat Inc., Toronto, Ontario, Canada; boxfusion, London, United Kingdom; Tel Aviv, Israel; Redline Communications, Inc., Markham, Ontario, Canada; Scribax consulting, Stockholm, Sweden; Servei de Telecomunicacions d'Andorra, Santa Coloma, Andorra; SNAP Solutions (M) Sdn Bhd, Kuala Lumpur, Malaysia; Softlab GmbH, Munich, Germany; Softline, Kiev, Ukraine; SoftTerminal, St. Petersburg, Russia; Square Hoop Limited, Wembley, United Kingdom; Switchlab, London, United Kingdom; Sykora Data Center, Ostrava, Czech Republic; Syntax I.T. inc., Attica, Greece; TbayTel, Thunder Bay, Ontario, Canada; TCB Ventures Ltd., Bristol, United Kingdom; Teleca Ltd., Manchester, United Kingdom; TELEMAR NORTE LESTE S.A., Rio de Janeiro, Brazil; Telephone and Data Systems, Inc., Chicago, IL; Terawave Communications, Inc., Hayward, CA; Theta Networks, Inc., Somerset, NJ; T-Mobile Austria GmbH, Vienna, Austria; TrueBaseline Coporation, Pittsburgh, PA; Tshibanda & Associates LLC, Kansas City, MO; Uecomm Ltd., Richmond, Victoria, Australia; University of Strathclyde, Glasgow, United Kingdom; Vodafone Czech Repulic, Prague, Czech Republic; VSNL International, Matawan, NJ; Westport Group, Alpharetta, GA; Xactium Limited, Sheffield, United Kingdom; Xelas software, Marina del Rey, CA; and Zao “Glasnet”, Moscow, Russia have been added as parties to this venture.

Also, Advance Solutions, Riyadh, Saudi Arabia; AT&T, Burlington Northern Santa Fe Railway, Kansas City, KS; Cape Clear Software, Dublin, Ireland; CH2M Hill, Richmond, United Kingdom; China Netcom Group Labs, Beijing, People's Republic of China; CoManage Corporation, Wexford, PA; Comstar Telecommunications, Moscow, Russia; Consitel, Moscow, Russia; Creation Partnerships Ltd., Fleet, United Kingdom; Duende Inc., Chicago, IL; EMBRATEL-Empresa Brasileira de Telecommunicacoes, Rio de Janeiro, Brazil; Exigen Group, San Francisco, CA; Fair Isaac and Company, Falls Church, VA; Fiberhome Software, Wuhan, People's Republic of China; Gefion, Inc., Vienna, VA; iAxisLimited, Andhra Pradesh, India; IDT Spectrum, Newark, NJ; Intamission Ltd., Windsor, United Kingdom; Internap Network Services, Atlanta, GA; Ipsum Networks, Plano, TX; Keymile, Bern-Liebefeld, Switzerland; LG TeleCom, Seoul, Republic of Korea; Marconi plc, Poole, United Kingdom; Micromuse, Inc., San Francisco, CA; Mobile Tornado Ltd., Mougins, France; MontgomeryCarter Ltd., Finchampstead, United Kingdom; NeuStar, Sterling, VA; Nextel Communications, Herndon, VA; NTL, Hook, United Kingdom; OrgProm LLC, Sverdlovsk, Russia; Osborn. TV, Dallas, TX; Pelagic Group, Singapore, Singapore; Polynetics BV, Hendrik Ido Ambacht, Netherlands; Primal Solutions, Inc., Irvine, CA; QoSmetrics, Massy, France; Sheer Networks Inc., Sunnyvale, CA; Telefonica Empresas S/A, Sao Paulo, Brazil; Telekom Slovenije, Ljubljana, Slovenia; Telynx, Inc., San Francisco, CA; TICO GmbH, Weininger, Switzerland; TimesTen, Inc., Mountain View, CA; Traventec, Galway, Ireland; Ukrainian Mobile Communications UMC, Kiev, Ukraine; Verdonck, Klooster & Associates, Zoetermeer, Netherlands; Vesbridge Partners, Minneapolis, MN; Vidus Limited, Ipswich, United Kingdom; Vodafone Sweden AB, Karlskrona, Sweden; Wanadoo UK, London, United Kingdom; and WebMethods, Inc., Durango, CO have withdrawn as parties to this venture.

The following members have changed their names: Xenicom Ltd. has changed its name to Andrew Network Solutions, Bristol, United Kingdom; NetTest has changed its name to Anritsu A/S, Kanagawa, Japan; SBC Communications Inc. has changed its name to AT&T Inc., San Antonio, TX; AT&T Inc. (incorporating SBC Communications Inc. & AT&T) has changed its name to AT&T Inc., San Antonio, TX; AutoMagic Consulting LLC has changed its name to AutoMagic KB LLC, Denver, CO; Barrett AB has changed its name to Barret AB, Froson, Sweden; Bell South has changed its name to BellSouth, Atlanta, GA; Aprisma Management Technologies has changed its name to CA, Islandia, NY; Computer Associates has changed its name to CA, Islandia, NY; CANTV has changed its name to CANTV.NET, Caracas, Venezuela; Capgemini has changed its name to Capgemini Telecom & Media, Paris, France; Cell Vision has changed its name to CellVision, Oslo, Norway; SESI has changed its name to Celona Technologies Ltd., London, United Kingdom; Cherrysoft Technologies Limited has changed its name to CherryTec Solutions Limited, Chennai, India; Cominfo has changed its name to Cominfo Consulting, Moscow, Russia; Simtel Technologies Ltd. has changed its name to CommProve Ltd., Dublin, Ireland; Incatel AS has changed its name to Comptel, Helsinki, Finland; CTI-IPsoft has changed its name to CTI-Communications. Technology. Innovations, Moscow, Russia; Defense Information Systems Agency has changed its name to DOD, Arlington, VA; SMARTS has changed its name to EMC, Brentford, United Kingdom; Ernst and Young (CIS) has changed its name to Ernst & Young (CIS) B.V., Moscow, Russia; Tertio Telecommunications has changed its name to Evolving Systems, London, United Kingdom; Fastwire has changed its name to Fastwire Pte Ltd., Singapore, Singapore; William S Greene has changed its name to FineGrain Networks, Ltd., Dallas, TX; Finger point has changed its name to Fingerprint Consultancy, Cairo, Egypt; Flextronics Software Systems Ltd., BSS/OSS BU has changed its name to Flextronics Software Systems Ltd., Gurgaon, India; FORS Training Center CJSC has changed its name to FORS Training Center Company Limited, Moscow, Russia; Glenayre Electronics, Inc. its affiliates, or any other successor companies, has changed its name to Glenayre Technologies, New York, NY; Industria Networks Ltd has changed its name to Industria, Dublin, Ireland; ADC Software Systems has changed its name to Intec Telecom Systems PLC, Minneapolis, MN; ICs Intelligent Communication Software has changed its name to Intelligent Communication Software Entwicklungs GmbH, Munich, Germany; Mariza Dungan has changed its name to Jamcracker, Inc., Santa Clara, CA; kvazar-micro has changed its name to Kvazar-Micro Corporation BV, Amsterdam, Netherlands, Matav Hungarian Telecom Company Ltd. has changed its name to Magyar Telekom, Budapest, Hungary; Mega has changed its name to MEGA International, Paris, France; Mobile Telecommunications Company Kuwait has changed its name to Mobile Telecommunications Company Group, Safat, Kuwait; mtctouch has changed its name to MTC Touch, Beirut, Lebanon, MTN RSA has changed its name to MTN Group, Johannesburg, South Africa; MTN South Africa has changed its name to MTN Group, Johannesburg, South Africa; NSS has changed its name to Network Support Services (NSS), Gauteng, South Africa; Networking Technology Laboratory has changed its name to Networking Technology Laboratory (BUTE), Budapest, Hungary; Nokia Networks has changed its name to Nokia Oyj, Tempere, Finland; Nortel Networks has changed its name to Nortel, Ottawa, Ontario, Canada; Office of Communications has changed its name to Office of Communications (OFCOM), London, United Kingdom; Cognera Ltd. has changed its name to Olista, Natanya, Israel; Cymbal Corporation has changed its name to Patni Computer Services, Fremont, CA; S&T Austria GMGH has changed its name to S&T Austria GmbH, Vienna, Austria; Open Telecommunications Limited has changed its name to S2Net, Sunrise, FL; SAS Global Services has changed its name to SAS Institute Global Services Pvt. Ltd., Mumbai, India; Sed Nobis Asia Pte has changed its name to SNAP Solutions (M) Sdn Bhd, Kuala Lumpur, Malaysia; ACANTHIS has changed its name to SOPRA GROUP, Paris, France; SPIN has changed its name to SPIN SA, Katowice, Poland; Sunrise has changed its name to sunrise, Zurich, Switzerland; Mahindra British Telecom has changed its name to Tech Mahindra, Pune, India; Steleus Group, Inc. has changed its name to Tekelec, Limonest, France; Inet Technologies, Inc. has changed its mane to Tektronix Texas, LLC, Richardson, TX; Teleca OSS AB has changed its name to Teleca Sweden South, Stockholm, Sweden; Telekom Malaysia Berhad (Co. Registration: 128740-P) has changed its name to Telekom Malaysia Berhad, Kuala Lumpur, Malaysia; Telcom Serbia has changed its name to Telekom Serbia, Belgrade, Serbia; Popkin Software & Systems has changed its name to Telelogic, Malmo, Sweden; Telenor AS has changed its name to Telenor ASA, Fornebu, Norway; 4DH Consulting has changed its name to Tigerstripe, Inc., Bellevue, WA; TNO Telecom has changed its name to TNO Information & Communication Technology, Delft, Netherlands; T-Systems International GmbH has changed its name to T-Systems Enterprise Services GmbH, Frankfurt, Germany; Watchmark Corp. has changed its name to Vallent Corporation, Bellevue, WA; Vodacom South Africa has changed its name to Vodacom (Pty) Ltd., Gombe, Democratic Republic of Congo; Mobifon SA has changed its name to Vodafone Romania SA, Bucharest, Romania; and The Westport Group has changed its name to Westport Group, Alpharetta, GA.

The following members have changed their addresses: Aktavara AB has changed its address to Stockholm, Sweden; Atreus Systems has changed its address to Ottawa, Ontario, Canada; Cominfo Consulting has changed its address to Moscow; Russia; Computer Scienes Corporation has changed its address toWeisbaden, Germany; Covad Communications has changed its address to San Jose, CA; CTI-Communications. Technology. Innovations has changed its address to Moscow, Russia; Digital Fuel Technologies, Inc. has changed its address to San Mateo, CA; EMC has changed its address to Hopkinton, MA; Flextronics Software systems Ltd. has changed its address to Haryana, India; Jacobs Rimell has changed its address to London, United Kingdom; MTC Touch has changed its address to Beirut, Lebanon; Nakina Systems has changed its address to Ottawa, Ontario, Canada; NEC Corporation has changed its address to Tokyo, Japan; Telchemy Incorporated has changed its address to Duluth, GA; and Telecom Italia Group has changed its address to Milano, Italy.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on February 16, 2006. A notice was published in the Federal Register pursuant to Section 6(b) of the Act on May 31, 2006 (71 FR 30961).

Patricia A. Brink,
Deputy Director of Operations, Antitrust Division.

[FR Doc. 06-8379 Filed 9-29-06; 8:45 am]

BILLING CODE 4410-11-M